DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of seven persons and two vessels that have been placed on OFAC's Specially Designated Nationals and Blocked Persons List (SDN List) based on OFAC's determination that one or more applicable legal criteria were satisfied. All property and interests in property subject to U.S. jurisdiction of these persons and these vessels are blocked, and U.S. persons are generally prohibited from engaging in transactions with them.

DATES: See SUPPLEMENTARY INFORMATION section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director Compliance, tel.: 202-622-2490.

SUPPLEMENTARY INFORMATION:

Electronic Availability

The SDN List and additional information concerning OFAC sanctions programs are available on OFAC's website (https://www.treasury.gov/ofac).

Notice of OFAC Action(s)

On March 26, 2024, OFAC determined that the property and interests in property subject to U.S. jurisdiction of the following persons and the following vessels subject to U.S. jurisdiction are blocked under the relevant sanctions authority listed below.

BILLING CODE 4810-AL-P

Individual

1. AL-LAW, Tawfiq Muhammad Sa'id (a.k.a. AL-LAW, Tawfiq; a.k.a. ALLOU, Tawfik), Beirut, Lebanon; DOB 04 May 1992; nationality Syria; Gender Male; Secondary sanctions risk: section 1(b) of Executive Order 13224, as amended by Executive Order 13886; Digital Currency Address—USDT TWBAPzpPiZarfVsY2BLXeaLhNHurn4wkWG; Passport N013053807 (Syria) (individual) [SDGT] (Linked To: HIZBALLAH).

Designated pursuant to section 1(a)(iii)(C) of E.O. 13224, as amended, for having materially assisted, sponsored, or provided financial, material, or technological support for, or goods or services to or in support of, HIZBALLAH, a person whose property and interests in property are blocked pursuant to E.O. 13224.

Vessels

1. DAWN II (f.k.a. AKIN I; a.k.a. SPAR) (3FHW2) Crude Oil Tanker Panama flag; Secondary sanctions risk: section 1(b) of Executive Order 13224, as amended by Executive Order 13886; Vessel Registration Identification IMO 9185530; MMSI 374100000 (vessel) [SDGT] (Linked To: HASSALEH INTERNATIONAL COMPANY).

Identified pursuant to E.O. 13224, as amended, as property in which HASSALEH INTERNATIONAL COMPANY, a person whose property and interests in property are blocked pursuant to E.O. 13224, as amended, has an interest.

2. ABYSS (T8A4595) Palau flag; Secondary sanctions risk: section 1(b) of Executive Order 13224, as amended by Executive Order 13886; Vessel Registration Identification IMO 9157765; MMSI 511101287 (vessel) [SDGT] (Linked To: QUOC VIET MARINE TRANSPORT JSC).

Identified pursuant to E.O. 13224, as amended, as property in which QUOC VIET MARINE TRANSPORT JSC, a person whose property and interests in property are blocked pursuant to E.O. 13224, as amended, has an interest.

Dated: March 26, 2024.
Bradley T. Smith,
Director, Office of Foreign Assets Control, U.S. Department of the Treasury.

[FR Doc. 2024-06732 Filed 3-28-24; 8:45 am]

BILLING CODE 4810-AL-C